DEPARTMENT OF THE INTERIOR

National Park Service

[NPS-WASO-NAGPRA-16304; PPWOCRADN0-PCU00RP14.R50000]

Notice of Intent To Repatriate Cultural Items: U.S. Department of Defense, Army, Fort Sill National Historic Landmark and Museum, Fort Sill, OK

AGENCY: National Park Service, Interior.

ACTION: Notice.

SUMMARY: The Fort Sill National Historic Landmark and Museum, in consultation with the appropriate Indian tribes or Native Hawaiian organizations, has determined that the cultural items listed in this notice meet the definition of unassociated funerary objects. Lineal descendants or representatives of any Indian tribe or Native Hawaiian organization not identified in this notice that wish to claim these cultural items should submit a written request to the Fort Sill National Historic Landmark and Museum. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Fort Sill National Historic Landmark and Museum at the address in this notice by October 10, 2014.

ADDRESSES: Dr. Scott A. Neel, Director, Fort Sill National Historic Landmark and Museum, U.S. Army Fires Center of Excellence, Fort Sill, OK 73503, telephone (580) 442-6570, email scott.a.neel2.civ@mail.mil.

SUPPLEMENTARY INFORMATION: Notice is here given in accordance with the Native American Graves Protection and Repatriation Act (NAGPRA), 25 U.S.C. 3005, of the intent to repatriate cultural items under the control of the Fort Sill National Historic Landmark and Museum that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1966, 29 cultural items were removed from the gravesite of Spotted Wolf who was interred near Canton, OK. The remains of Spotted Wolf were exhumed and moved to Chief's Knoll at the Fort Sill Post Cemetery, but the cultural items were not reinterred with the human remains. It is unknown when the cultural items were given to the Fort Sill National Historic Landmark and Museum. Spotted Wolf died in 1897, and is identified as Southern Arapaho on his gravestone at the Fort Sill Post Cemetery and as Arapaho in Fort Sill records. The 29 unassociated funerary objects are 12 pieces of red ochre, 2 rings, 1 metal cane handle, 1 belt buckle, 1 box, 9 metal disks, 1 metal button, 1 ceramic dog figurine, and 1 ceramic figurine.

Determinations Made by the Fort Sill National Historic Landmark and Museum

Officials of the Fort Sill National Historic Landmark and Museum have determined that:

• Pursuant to 25 U.S.C. 3001(3)(B), the 29 cultural items described in this notice are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Cheyenne and Arapaho Tribes, Oklahoma (previously listed as Cheyenne-Arapaho Tribes of Oklahoma).

Additional Requestors and Disposition

Lineal descendants or representatives of any Indian tribe or Native Hawaiian organization not identified in this notice that wish to claim these cultural items should submit a written request with information in support of the claim to Dr. Scott A. Neel, Director, Fort Sill National Historic Landmark and Museum, U.S. Army Fires Center of Excellence, Fort Sill, OK 73503, telephone (580) 442-6570, email scott.a.neel2.civ@mail.mil, by October 10, 2014. After that date, if no additional claimants have come forward, transfer of control of the unassociated funerary objects to the Cheyenne and Arapaho Tribes, Oklahoma (previously listed as Cheyenne-Arapaho Tribes of Oklahoma) may proceed.

The Fort Sill National Historic Landmark and Museum is responsible for notifying the Cheyenne and Arapaho Tribes, Oklahoma (previously listed as Cheyenne-Arapaho Tribes of Oklahoma) that this notice has been published.

Dated: July 17, 2014.
Melanie O'Brien,
Acting Manager, National NAGPRA Program.

[FR Doc. 2014-21489 Filed 9-9-14; 8:45 am]

BILLING CODE 4312-50-P